DEPARTMENT OF HOMELAND SECURITY

Coast Guard

33 CFR Part 117

[Docket No. USCG-2023-0183]

RIN 1625-AA09

Drawbridge Operation Regulation; River Rouge, Detroit, MI

AGENCY: Coast Guard, DHS.

ACTION: Notice of proposed rulemaking.

SUMMARY: The Coast Guard proposes to modify the operations of all movable bridges over the River Rouge, Detroit, MI to improve communications and establish winter hours. We invite your comments on this proposed rulemaking.

DATES: Comments and relate material must reach the Coast Guard on or before July 5, 2023.

ADDRESSES: You may submit comments identified by docket number USCG-2023-0183 using Federal Decision-Making Portal at https://www.regulations.gov.

See the “Public Participation and Request for Comments” portion of the SUPPLEMENTARY INFORMATION section below for instructions on submitting comments.

FOR FURTHER INFORMATION CONTACT: If you have questions on this temporary final rule, call or email Mr. Lee D. Soule, Bridge Management Specialist, Ninth Coast Guard District; telephone 216-902-6085, email Lee.D.Soule@uscg.mil.

SUPPLEMENTARY INFORMATION:

I. Table of Abbreviations

CFR Code of Federal Regulations

DHS Department of Homeland Security

FR Federal Register

IGLD85 International Great Lakes Datum of 1985

LWD Low Water Datum based on IGLD85

OMB Office of Management and Budget

NPRM Notice of Proposed Rulemaking

§ Section

U.S.C. United States Code

II. Background, Purpose, and Legal Basis

The River Rouge is a 127-mile river that winds through the Detroit metropolitan area of southeastern Michigan. The river flows into the Detroit River at Zug Island, which is the boundary between the cities of River Rouge and Detroit.

The River Rouge is highly polluted and was designated as a Great Lakes Area of Concern (AOC) under the Great Lakes Water Quality Agreement in 1987. The designated AOC covers the entire River Rouge watershed, which touches 48 communities. The River Rouge watershed drains into the Detroit River, which serves as a maritime border between the United States and Canada.

In the 1970s, the lower three miles of the river were channelized, widened, and dredged to allow freighter access to Ford's River Rouge Plant inland factory facilities. The plant was built between 1915 and 1927. It was the first manufacturing facility for automobiles that included within the plant virtually everything needed to produce the cars: blast furnaces, an open-hearth mill, a steel rolling mill, a glass plant, a huge power plant, and an assembly line. During the 1930s, some 100,000 workers were employed here. The plant has been designated as a National Historic Landmark and is still in use.

Domestic and foreign freighters continue to use the lower three miles of the River Rouge for trade. A steel mill near the head of navigation receives bulk shipments regularly; other industries using the river include a petroleum refinery, cement dock, and stone dock. Other smaller docks are located along the banks of the river. A dormant steel mill can be found on Zug Island at the mouth of the river.

Recreational vessels are welcome to use the River Rouge, but there is little infrastructure to support recreational vessels in this waterway.

Thirteen bridges cross the Rouge River between the river mouth and river mile 2.75; eight of these bridges are movable. The controlling fixed structure is the Fisher Freeway I-75 Bridge, mile 1.85, that provides a horizontal clearance of 230-feet and a vertical clearance of 100-feet above LWD.

The National Steel Cooperation Railroad Bridge, mile 0.40, is a single leaf bascule bridge that provides horizontal clearance of 125-feet and a vertical clearance of 6-feet in the closed and an unlimited clearance above LWD.

The West Jefferson Avenue Bridge, mile 1.10, is a double leaf bascule Bridge that provides horizontal clearance of 125-feet and a vertical clearance of 9-feet in the closed and an unlimited clearance in the open position above LWD.

The Conrail Bridge, mile 1.48, is a single leaf bascule bridge that provides horizontal clearance of 123-feet and a vertical clearance of 8-feet in the closed and an unlimited clearance in the open position above LWD. It is remotely operated.

The Norfolk Southern Railroad Bridge, mile 1.87, is a single leaf bascule Bridge that provides horizontal clearance of 125-feet and a vertical clearance of 8-feet in the closed and an unlimited clearance in the open position above LWD.

The Fort Street Bridge, mile 2.20, is a single leaf bascule Bridge that provides horizontal clearance of 118-feet and a vertical clearance of 9-feet in the closed and an unlimited clearance in the open position above LWD.

The main channel of the river was the result of Mr. Henry Ford needing to straighten the entrance of the River Rouge to accommodate deliveries of raw materials to his automotive plant. This main channel, formally known as the short cut channel, formed Zug Island at the mouth of the river. The original channel that curves around the north and west sides of Zug Island is know known as the old channel and is crossed by two movable bridges.

The Delray Connecting Railroad Bridge, mile 0.34, is a single leaf bascule Bridge that provides horizontal clearance of 120-feet and a vertical clearance of 7-feet in the closed and an unlimited clearance in the open position above LWD.

The Delray Connecting Railroad Bridge, mile 0.80, is a swing Bridge that provides horizontal clearance of 102-feet and a vertical clearance of 7-feet in the closed and an unlimited clearance in the open position above LWD.

Large freighters will not enter the River Rouge without communicating their intentions to the drawbridges they need to pass through because the river has several bends and, due to the large drainage area, river currents in the River Rouge can vary from mild to wild in a short amount of time. This deviation increases the difficulty for large vessels to maintain position near bridges.

There are no alternate routes for vessels to avoid going through the bridges listed here.

III. Discussion of Proposed Rule

The Coast Guard has received an increase in delay reports for the River Rouge caused by a failure in communications between bridgetenders and mariners. We propose to require all bridges to operate and maintain a radiotelephone.

Because most of the delays have been at rail bridges, we propose to require the Conrail Bridge, mile 1.48 and the Norfolk Southern Railroad Bridge to maintain and operate a telephone. Both bridges currently provide telephone numbers to mariners, as requested, and this proposed rule would not require the installment of any new equipment.

The regulations for the National Steel Cooperation Railroad Bridge, mile 0.40, the Delray Connecting Railroad Bridge, mile 0.34, and the Delray Connecting Railroad Bridge, mile 0.80 would remain as written.

Most of the rivers in the Great Lakes have winter hours that allow bridge owners to receive a 12-hour advance notice for openings during times when ice hinders navigation or during reduced river traffic. We asked the Lake Carriers Association, the Passenger Vessel Association, and the Chamber of Marine Commerce in Canada for informal comments and did not receive any.

We are proposing starting winter hours on January 1 through March 31 for all bridges crossing the River Rouge. Each bridge would be required to provide the Coast Guard District Bridge office with appropriate phone number each fall to advertise to the mariners to provide the 12-hour advance notice.

IV. Regulatory Analyses

We developed this proposed rule after considering numerous statutes and Executive Orders related to rulemaking. Below we summarize our analyses based on these statutes and Executive Orders.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

This regulatory action determination is based on the ability that vessels can still transit the bridge given advanced notice.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this rule under Department of Homeland Security Management Directive 023-01, Rev.1, associated implementing instructions, and Environmental Planning Policy COMDTINST 5090.1 (series), which guide the Coast Guard in complying with the National Environmental Policy Act of 1969 (NEPA)(42 U.S.C. 4321-4370f). The Coast Guard has determined that this action is one of a category of actions that do not individually or cumulatively have a significant effect on the human environment. This proposed rule promulgates the operating regulations or procedures for drawbridges. Normally such actions are categorically excluded from further review, under paragraph L49, of Chapter 3, Table3-1 of the U.S. Coast Guard Environmental Planning Implementation Procedures.

Neither a Record of Environmental Consideration nor a Memorandum for the Record are required for this rule. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG- 2023-0183 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive. Additionally, if you go to the online docket and sign up for email alerts, you will be notified when comments are posted, or a final rule is published of any posting or updates to the docket.

We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; Department of Homeland Security Delegation No. 00170.1, Revision No. 01.3

2. Amend § 117.645 River Rouge by revising paragraph (d) and adding paragraphs (e) through (h) to read as follows:

§ 117.645 River Rouge.

* * * * *

(d) The draw of the West Jefferson Avenue Bridge, mile 1.10, is required to operate a radiotelephone, and shall open on signal except from January 1 through March 31 when the bridge shall open on signal if provided a 12-hour advance notice.

(e) The draw of the Conrail Bridge, mile 1.48, is remotely operated, is required to operate a radiotelephone and telephone, and shall open on signal except from January 1 through March 31 when the bridge shall open on signal if provided a 12-hour advance notice.

(f) The draw of the Norfolk Southern Railroad Bridge, mile 1.87, is required to operate a radiotelephone and telephone, and shall open on signal except from January 1 through March 31 when the bridge shall open on signal if provided a 12-hour advance notice.

(g) The draw of the Fort Street Bridge, mile 2.20, is required to operate a radiotelephone, and shall open on signal except from January 1 through March 31 when the bridge shall open on signal if provided a 12-hour advance notice.

(h) The draw of the Dix Avenue Bridge, mile 2.73, is remotely operated, is required to operate a radiotelephone, and shall open on signal except from January 1 through March 31 when the bridge shall open on signal if provided a 12-hour advance notice.

Dated: May 1, 2023.
E.J. Doucette,
Captain, U.S. Coast Guard, Acting Commander, Ninth Coast Guard District.

[FR Doc. 2023-09575 Filed 5-4-23; 8:45 am]

BILLING CODE 9110-04-P